DEPARTMENT OF COMMERCE

National Oceanic and Atmospheric Administration

[RTID 0648-XA915]

North Pacific Fishery Management Council; Public Meeting

AGENCY: National Marine Fisheries Service (NMFS), National Oceanic and Atmospheric Administration (NOAA), Commerce.

ACTION: Notice of web conference.

SUMMARY: The Center of Independent Experts (CIE) meeting will be held April 5, 2021 through April 9, 2021.

DATES: The meeting will be held on Monday, April 5, 2021 through Friday, April 9, 2021, from 9 a.m. to 5 p.m., Pacific Time.

ADDRESSES: The meeting will be a web conference. Join online through the link at https://archive.fisheries.noaa.gov/afsc/refm/stocks/plan_team/2021_flatfish_cie/.

Council address: Alaska Fishery Science Center, 7600 Sand Point Way, Seattle, WA 98115; telephone: (206) 526-4000.

FOR FURTHER INFORMATION CONTACT: Meaghan Bryan, Alaska Fishery Science Center staff; phone: (206) 526-4694; email: meaghan.bryan@noaa.gov.

SUPPLEMENTARY INFORMATION:

Agenda

Monday, April 5, 2021 Through Friday, April 9, 2021

The CIE is to review the Bering Sea and Aleutian Islands (BSAI) Greenland turbot assessment model and the Gulf of Alaska northern rock sole and southern rock sole stock assessment models.

The agenda is subject to change, and the latest version will be posted at https://archive.fisheries.noaa.gov/afsc/refm/stocks/plan_team/2021_flatfish_cie/ prior to the meeting, along with meeting materials.

Authority: 16 U.S.C. 1801 et seq.

Dated: March 3, 2021.
Tracey L. Thompson,
Acting Deputy Director, Office of Sustainable Fisheries, National Marine Fisheries Service.

[FR Doc. 2021-04755 Filed 3-5-21; 8:45 am]

BILLING CODE 3510-22-P